DEPARTMENT OF COMMERCE

International Trade Administration

Overseas Trade Missions

AGENCY: International Trade Administration, Department of Commerce.

ACTION: Notice.

SUMMARY: The Department of Commerce invites U.S. companies to participate in the below listed overseas trade missions. For a more complete description, obtain a copy of the mission statement from the Project Officer indicated below.

Explore BC

Vancouver, Canada

February 25-26, 2003

Recruitment closes on February 14, 2003.

FOR FURTHER INFORMATION CONTACT: Ms. Cheryl Schell, U.S. Department of Commerce, telephone 604-642-6679, or e-mail to Cheryl.Schell@mail.doc.gov.

Explore BC

Vancouver, Canada

June 10-11, 2003

Recruitment closes on May 2, 2003.

FOR FURTHER INFORMATION CONTACT: Cheryl Schell, U.S. Department of Commerce, telephone 604-642-6679, or e-mail to Cheryl.Schell@mail.doc.gov.

Tourism Infrastructure and Development Exhibition and Conference

Athens, Greece

October 17-20, 2003

Recruitment closes on March 12, 2003.

FOR FURTHER INFORMATION CONTACT: Ms. Phyllis Bradley, U.S. Department of Commerce, telephone 202-482-2085, or e-mail to Phyllis.Bradley@mail.doc.gov—or, in Greece, Ms. Irene Ralli, U.S. Embassy, Athens, telephone 30-1-720-2224 or e-mail to Irene.Ralli@mail.doc.gov.

Explore BC

Vancouver, Canada

November 18-19, 2003

Recruitment closes on October 10, 2003.

FOR FURTHER INFORMATION CONTACT: Ms. Cheryl Schell, U.S. Department of Commerce, telephone 604-642-6679, or e-mail to Cheryl.Schell@mail.doc.gov.

Recruitment and selection of private sector participants for these trade missions will be conducted according to the Statement of Policy Governing Department of Commerce Overseas Trade Missions dated March 3, 1997.

FOR FURTHER INFORMATION CONTACT: Mr. Thomas Nisbet, U.S. Department of Commerce, telephone 202-482-5657, or e-mail Tom_Nisbet@ita.doc.gov.

Dated: January 30, 2003.
Thomas H. Nisbet,
Director, Export Promotion Coordination, Office of Planning, Coordination and Management.

[FR Doc. 03-2605 Filed 2-3-03; 8:45 am]

BILLING CODE 3510-DR-P